Proclamation 8704 of September 1, 2011

National Wilderness Month, 2011

By the President of the United States of America

A Proclamation

The mystery and wonder of wilderness is deeply rooted in our national character. For many of the first Americans—American Indians and Alaska Natives—the wilderness provided a source of sustenance and a foundation for their ways of life. Later, as explorers and the pioneers of a young country moved west, they found adventure and new beginnings in the landscapes of our Nation.

As we continue our country’s proud journey and explore new opportunities in the 21st century, the importance of maintaining our wilderness has only grown. Protecting our wilderness areas and their riches—clean water, stretches of undisturbed land, thriving wildlife, and healthy ecosystems—is critical to the health of our environment and our communities. Today, wilderness areas serve as places for us to roam, hunt, fish, and find solitude. They are also strong engines of local economies, providing tourism and recreation revenue for communities.

To help preserve our natural surroundings, I established the America’s Great Outdoors Initiative to advance a conservation agenda for the 21st century, with ideas stemming directly from the American people. We are working with State, local, and tribal communities to support community-driven initiatives that embody the values and character of our wilderness heritage and other landscapes. And in recognition of the importance of our wilderness, my Administration has expanded protected wilderness areas by 2 million acres.

From our earliest days, America’s identity has been tied to the powerful waterfalls, soaring peaks, and vast plains of its land. As a people, we are defined by its diversity and empowered by its richness. This month, we honor this land that we love, and commit to ensuring our wilderness remains a place where all can experience the spirit that has shaped America. During National Wilderness Month, let each of us embrace our Nation’s legacy of protecting and preserving our vast wilderness for generations to come.

NOW, THEREFORE, I, BARACK OBAMA, President of the United States of America, by virtue of the authority vested in me by the Constitution and the laws of the United States, do hereby proclaim September 2011 as National Wilderness Month. I invite all Americans to visit and enjoy our wilderness areas, to learn about their vast history, and to aid in the protection of our precious national treasures.

IN WITNESS WHEREOF, I have hereunto set my hand this first day of September, in the year of our Lord two thousand eleven, and of the Independence of the United States of America the two hundred and thirty-sixth.

[FR Doc. 2011-22939

Filed 9-6-11; 8:45 am]

Billing code 3195-W1-P